DEPARTMENT OF ENERGY

Federal Energy Regulatory Commission

[P-13123-002-CA]

Eagle Mountain Pumped Storage Hydroelectric Project, Eagle Crest Energy; Notice of Meeting With the Bureau of Land Management

a. Date and Time of Meeting: Wednesday, May 8, 2013, at 9:00 a.m. (Pacific Time).

b. Location: Palm Desert Center, University of California-Riverside, Building B, Rooms 114-117, 75080 Frank Sinatra Drive, Palm Desert, CA 92211. This notice is a follow-up to a notice published on April 23, 2013, which stated that the meeting would take place in the vicinity of Palm Springs but did not include the precise location of the meeting.

c. FERC Contact: Kenneth Hogan, (202) 502-8434: Kenneth.Hogan@ferc.gov.

d. Purpose of the Meeting: Commission staff will meet with the staff of the Bureau of Land Management to improve agency coordination and discuss the agencies' overlapping jurisdictions (pursuant to the Federal Land Policy and Management Act and the Federal Power Act), on the Eagle Mountain Pumped Storage Hydroelectric Project.

e. All local, state, and federal agencies, tribes, and interested parties, are hereby invited to observe the meeting in person.

f. This meeting was originally noticed on July 17, 2012, and subsequently postponed on August 3, 2012.

Dated: April 29, 2013.
Kimberly D. Bose,
Secretary.

[FR Doc. 2013-10615 Filed 5-3-13; 8:45 am]

BILLING CODE 6717-01-P